DEPARTMENT OF HEALTH AND HUMAN SERVICES

Centers for Disease Control and Prevention

[Docket Number CDC-2019-0015, NIOSH-153-E]

Request for the Technical Review of 10 Draft Skin Notation Assignments and Skin Notation Profiles

AGENCY: National Institute for Occupational Safety and Health (NIOSH) of the Centers for Disease Control and Prevention (CDC), Department of Health and Human Services (HHS).

ACTION: Request for information and comment.

SUMMARY: The National Institute for Occupational Safety and Health of the Centers for Disease Control and Prevention announces the availability of 10 draft skin notation profile documents now available for public comment entitled:

Skin notation profile: Cyclohexanol

Skin notation profile: Cyclohexanone

Skin notation profile: Cyclonite

Skin notation profile: Diacetyl and 2,3-Pentanedione

Skin notation profile: Diethylenetriamine

Skin notation profile: beta-Chloroprene

Skin notation profile: Chlorodiphenyl 42% Chlorine

Skin notation profile: Chlorodiphenyl 54% Chlorine

Skin notation profile: Dioxane

Skin notation profile: 2,4-Toluene diisocyanate, 2,6-Toluene diisocyanate, and the mixture of 2,4- and 2,6-Toluene diisocyanate

To view the notice and related materials, visit https://www.regulations.gov and enter CDC-2019-0015 in the search field and click “Search.”

DATES: Electronic or written comments must be received by May 14, 2019.

ADDRESSES: You may submit comments, identified by CDC-2019-0015 and docket number NIOSH-153-E, by any of the following methods:

• Federal eRulemaking Portal: https://www.regulations.gov. Follow the instructions for submitting comments.

• Mail: National Institute for Occupational Safety and Health, NIOSH Docket Office, 1090 Tusculum Avenue, MS C-34, Cincinnati, Ohio 45226-1998.

Instructions: All information received in response to this notice must include the agency name and docket number [CDC-2019-0015; NIOSH-153-E]. All relevant comments received will be posted without change to https://www.regulations.gov, including any personal information provided. All electronic comments should be formatted as Microsoft Word. For access to the docket to read background documents or comments received, go to https://www.regulations.gov. All information received in response to this notice will also be available for public examination and copying at the NIOSH Docket Office, 1150 Tusculum Avenue, Room 155, Cincinnati, OH 45226-1998.

FOR FURTHER INFORMATION CONTACT: Naomi Hudson, NIOSH/EID, Robert A. Taft Laboratories, 1090 Tusculum Avenue, MS-C32, Cincinnati, OH 45226. Telephone: (513) 533-8388 (not a toll free number).

SUPPLEMENTARY INFORMATION: The National Institute for Occupational Safety and Health (NIOSH) of the Centers for Disease Control and Prevention (CDC) is conducting a public review of the draft skin notations and support technical documents, entitled Skin Notations Profiles, for 10 chemicals. NIOSH is requesting technical reviews of the draft Skin Notation Profiles.

Background: In 2009, NIOSH published Current Intelligence Bulletin (CIB) 61—A Strategy for Assigning New NIOSH Skin Notations [NIOSH 2009-147; http://www.cdc.gov/niosh/docs/2009-147/pdfs/2009-147.pdf]. The CIB presents a strategic framework that is a form of hazard identification designed to do the following:

1. Ensure that the assigned skin notations reflect the contemporary state of scientific knowledge.

2. Provide transparency behind the assignment process.

3. Communicate the hazards of chemical exposures of the skin.

4. Meet the needs of health professionals, employers, and other interested parties in protecting workers from chemical contact with the skin.

This strategy involves the assignment of multiple skin notations for distinguishing systemic (SYS), direct (DIR), and sensitizing (SEN) effects caused by exposure of skin (SK) to chemicals.

Information Needs: To facilitate the review of these documents, NIOSH requests that the following questions be taken into consideration:

1. Does this document clearly outline the systemic health hazards associated with exposures of the skin to the chemical? If not, what specific information is missing from the document?

2. If the SYS or SYS (FATAL) notations are assigned, are the rationale and logic behind the assignment clear? If not assigned, is the logic clear why it was not (e.g., insufficient data, no identified health hazard)?

3. Does this document clearly outline the direct (localized) health hazards associated with exposures of the skin to the chemical? If not, what specific information is missing from the document?

4. If the DIR, DIR (IRR), or DIR (COR) notations are assigned, are the rationale and logic behind the assignment clear? If not assigned, is the logic clear why it was not (e.g., insufficient data, no identified health hazard)?

5. Does this document clearly outline the immune-mediated responses (allergic response) as health hazards associated with exposures of the skin to the chemical? If not, what specific information is missing from the document?

6. If the SEN notation is assigned, are the rationale and logic behind the assignment clear? If not assigned, is the logic clear why it was not (e.g., insufficient data, no identified health hazard)?

7. If the ID (SK) or SK were assigned, are the rationale and logic outlined within the document?

8. Are the conclusions supported by the data?

9. Are the tables clear and appropriate?

10. Is the document organized appropriately? If not, what improvements are needed?

11. Are you aware of any scientific data reported in governmental publications, databases, peer-reviewed journals, or other sources that should be included within this document?

References:

Current Intelligence Bulletin 61: A Strategy for Assigning New NIOSH Skin Notations [https://www.cdc.gov/niosh/docs/2009-147/]

Dated: March 11, 2019.
Frank J. Hearl,
Chief of Staff, National Institute for Occupational Safety and Health, Centers for Disease Control and Prevention.

[FR Doc. 2019-04794 Filed 3-14-19; 8:45 am]

BILLING CODE 4163-19-P